DEPARTMENT OF TRANSPORTATION

Federal Aviation Administration

14 CFR Part 39

[Docket No. 2000-NM-150-AD]

RIN 2120-AA64

Airworthiness Directives; McDonnell Douglas Model DC-9-81 (MD-81), DC-9-82 (MD-82), DC-9-83 (MD-83), DC-9-87 (MD-87), and MD-88 Airplanes

AGENCY: Federal Aviation Administration, DOT.

ACTION: Supplemental notice of proposed rulemaking; reopening of comment period.

SUMMARY: This document revises an earlier proposed airworthiness directive (AD), applicable to all McDonnell Douglas Model DC-9-81 (MD-81), DC-9-82 (MD-82), DC-9-83 (MD-83), DC-9-87 (MD-87), and MD-88 airplanes, that would have required one-time inspections to detect discrepancies of electrical wiring installations in various areas of the airplane, and corrective action if necessary. This new action expands the area to be inspected. The actions specified by this new proposed AD are intended to prevent smoke and fire in various areas of the airplane due to heat damage and/or electrical arcing of improperly installed wiring. The actions specified in this action are intended to address the identified unsafe condition.

DATES: Comments must be received by August 18, 2003.

ADDRESSES: Submit comments in triplicate to the Federal Aviation Administration (FAA), Transport Airplane Directorate, ANM-114, Attention: Rules Docket No. 2000-NM-150-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2000-NM-150-AD” in the subject line and need not be submitted in triplicate. Comments sent via the Internet as attached electronic files must be formatted in Microsoft Word 97 or 2000 or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Elvin K. Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-150-AD.” The postcard will be date stamped and returned to the commenter.

Availability of NPRMs

Any person may obtain a copy of this NPRM by submitting a request to the FAA, Transport Airplane Directorate, ANM-114, Attention: Rules Docket No. 2000-NM-150-AD, 1601 Lind Avenue, SW., Renton, Washington 98055-4056.

Discussion

A proposal to amend part 39 of the Federal Aviation Regulations (14 CFR part 39) to add an airworthiness directive (AD), applicable to all McDonnell Douglas Model DC-9-81 (MD-81), DC-9-82 (MD-82), DC-9-83 (MD-83), DC-9-87 (MD-87), and MD-88 airplanes, was published as a notice of proposed rulemaking (NPRM) in the Federal Register on September 5, 2002 (67 FR 56768). That NPRM would have required one-time inspections to detect discrepancies of electrical wiring installations in various areas of the airplane, and corrective action if necessary. That NPRM was prompted by reports of damaged wiring insulation and chafed wiring in various areas on the affected airplanes. Investigation revealed that the damage and chafing might be attributed to improper wire installations and/or maintenance practices. This condition, if not corrected, could lead to heat damage and/or electrical arcing of the wiring, which could result in fire and smoke in various areas of the airplane.

Comments

Due consideration has been given to the comments received in response to the original NPRM.

Support for the Original NPRM

The Air Transport Association of America reports that its members generally support the intent of the original NPRM.

Request To Expand Areas To Be Inspected

Boeing asserts that the list of service bulletins cited in the original NPRM is incomplete and requests that the original NPRM be revised to expand the area of inspection to include the flight compartment and forward drop ceiling and the electrical/electronic (E/E) compartment, which may also be subject to the identified unsafe condition.

The FAA agrees. Boeing Service Bulletins MD80-24-176 and MD80-24-177, both Revision 02, both dated January 21, 2003, describe procedures for one-time nonintrusive inspections to detect discrepancies of exposed wiring in the flight compartment and forward drop ceiling and the E/E compartment, and, if necessary, corrective action (including replacing too-large clamps with smaller clamps, repositioning wires and clamps, replacing torn or broken clamps with new clamps, tightening loose wire terminations, and installing protective sleeving over wiring, as applicable). Those actions are intended to address the identified unsafe condition. This supplemental NPRM has been revised to add wiring inspections in those areas.

Request To Cite Most Recent Service Information

One commenter asserts that the serviceability of the wiring grommets (proposed to be inspected per the original NPRM) is subject to interpretation. The commenter states that Boeing has recognized that it would be impossible to nonintrusively verify the integrity of the grommets. Boeing plans to revise the service bulletins to remove the grommet inspection. Therefore, the commenter requests that we delay issuance of the AD until the service bulletins have been revised.

We agree. Boeing Service Bulletins MD80-24-178, MD80-24-179, MD80-24-180, MD80-24-181, and MD80-24-182, all Revision 01, including Appendix, dated June 12, 2001, were cited in the original NPRM as the appropriate sources of service information for the inspections. Those service bulletins were revised (Revision 02 was issued January 21, 2003) to remove the electrical component grommet inspection procedures. The remaining procedures were essentially unchanged. Therefore, this supplemental NPRM has been revised to cite Revision 02 of the service bulletins, but would provide credit for applicable inspections already done per the original issue or Revision 01 of the service bulletins.

Request To Extend Compliance Time

One commenter recommends that the compliance time be extended from 5 years to 6 years to accommodate accomplishment of the inspections at heavy maintenance visits, since extensive access is necessary to reach the inspection areas.

We agree with the request. We find that extending the compliance time to 6 years for the inspections will better accommodate operators' schedules and still maintain an adequate level of safety. This supplemental NPRM has been revised accordingly.

Request To Revise Cost Estimate

One commenter claims that the original NPRM understates the labor hours necessary to accomplish the detail of inspection specified in the service bulletins. Based on experience, the commenter suggests that the work hours for the proposed inspections is 66 work hours per airplane, not 33 work hours as stated in the original NPRM. The commenter states that the inspections alone on its fleet would take 23,892 work hours. The commenter asserts that material and labor costs to restore any condition that does not conform to the service bulletin requirements cannot be estimated due to the extent of possible deviations/differences from airplane to airplane.

We infer that the commenter is requesting that the Cost Impact section of the original NPRM be revised. We partially agree with the commenter's rationale. We agree that the specified work hours may not always accurately reflect the amount of time necessary to complete the required work for every airplane or for every operator. We also recognize that material and labor costs to fix any discrepancy cannot be accurately estimated for each airplane. However, as explained in the Cost Impact section of the original NPRM, the economic analysis of the AD is limited to the cost of actions that would actually be required by the AD. The economic analysis does not consider the costs of conditional actions, such as repairing discrepancies found during a required inspection. Such conditional actions would be required to be accomplished—regardless of AD direction—to correct an unsafe condition identified in an airplane and to ensure operation of that airplane in an airworthy condition, as required by the Federal Aviation Regulations. No change to this supplemental NPRM is necessary regarding this issue.

Conclusion

Since certain changes expand the scope of the original NPRM, we have determined that it is necessary to reopen the comment period to provide additional opportunity for public comment.

Changes to 14 CFR Part 39/Effect on This Supplemental NPRM

On July 10, 2002, we issued a new version of 14 CFR part 39 (67 FR 47997, July 22, 2002), which governs the FAA's airworthiness directives system. This regulation now includes material that relates to altered products, special flight permits, and alternative methods of compliance (AMOCs). Therefore, in this supplemental NPRM, Note 1 and paragraph (c) of the original NPRM have been removed, paragraph (b) of the original NPRM has been revised to identify the office authorized to approve AMOCs, and the remaining notes and paragraphs have been reidentified accordingly.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 1,191 airplanes of the affected design in the worldwide fleet. Estimates of the costs of the proposed actions are provided in the following table:

Service bulletin | Work hours per airplane | Labor rate/hour | Cost per airplane | U.S. airplanes | U.S. fleet cost
MD80-24-176 | 8 | $65 | $521 | 732 | $380,640
MD80-24-177 | 5 | 65 | 325 | 732 | 237,900
MD80-24-178 | 8 | 65 | 520 | 732 | 380,640
MD80-24-179 | 8 | 65 | 520 | 732 | 380,640
MD80-24-180 | 8 | 65 | 520 | 732 | 380,640
MD80-24-181 | 6 | 65 | 390 | 732 | 285,640
MD80-24-182 | 3 | 65 | 195 | 732 | 142,740

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions. Manufacturer warranty remedies may be available for labor costs associated with this supplemental NPRM. As a result, the costs attributable to the supplemental NPRM may be less than stated above.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

McDonnell Douglas: Docket 2000-NM-150-AD.

Applicability: All Model DC-9-81 (MD-81), DC-9-82 (MD-82), DC-9-83 (MD-83), DC-9-87 (MD-87), and MD-88 airplanes; certificated in any category.

Compliance: Required as indicated, unless accomplished previously.

Note 1: The FAA recommends that the actions required by this AD be accomplished after replacing the metallized polyethyleneteraphthalate (MPET) insulation blankets, as required by AD 2000-11-02, amendment 39-11750.

To prevent smoke and fire in various areas of the airplane due to heat damage and/or electrical arcing of improperly installed wiring, accomplish the following:

Inspection

(a) Within 6 years after the effective date of this AD: Perform a detailed inspection to detect discrepancies of exposed electrical wiring installations as specified in Table 1 of this AD. Specific discrepancies are listed in paragraph 3.B.3. of each service bulletin. Prior to further flight thereafter, perform corrective actions in accordance with the service bulletin, as applicable. Table 1 follows:

Table 1.—Inspection Requirements
Inspect the electrical wiring installations in the— | In accordance with the following McDonnell Douglas Service Bulletin:
(1) Flight compartment and forward drop ceiling | MD80-24-176, Revision 02, dated January 21, 2003.
(2) Electrical/electronic compartment | MD80-24-177, Revision 02, dated January 21, 2003.
(3) Forward passenger compartment from stations Y=218.000 to Y=846.000 | MD80-24-178, Revision 02, dated January 21, 2003.
(4) Aft passenger compartment from stations Y=846.000 to Y=1338.000 | MD80-24-179, Revision 02, dated January 21, 2003.
(5) Forward and mid cargo compartments from stations Y=218.000 to Y=811.000 | MD80-24-180, Revision 02, dated January 21, 2003.
(6) Aft cargo compartment from stations Y=1033.000 to Y=1338.000 | MD80-24-181, Revision 02, dated January 21, 2003.
(7) Forward accessory compartment from stations Y=41.000 to Y=70.000 | MD80-24-182, Revision 02, dated January 21, 2003.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(b) Although the service bulletins identified in Table 1 of this AD specify that operators provide a report of inspection findings, this AD does not require such information.

(c) An inspection done before the effective date of this AD is acceptable for compliance with the inspection requirements of this AD, if accomplished in accordance with the corresponding service bulletin identified in Table 1 of this AD, original version, dated July 14, 2000; or Revision 01, dated June 12, 2001.

Alternative Methods of Compliance

(d) In accordance with 14 CFR 39.19, the Manager, Los Angeles Aircraft Certification Office, FAA, is authorized to approve alternative methods of compliance for this AD.

Issued in Renton, Washington, on July 18, 2003.
Ali Bahrami,
Acting Manager, Transport Airplane Directorate, Aircraft Certification Service.

[FR Doc. 03-18786 Filed 7-23-03; 8:45 am]

BILLING CODE 4910-13-P